DEPARTMENT OF LABOR

Employment and Training Administration

[TA-W-54,945; TA-W-54,945A]

Amcor Plastube, Inc., Breinigsville, Pennsylvania; Amcor Plastube, Inc., Lake in the Hills, Illinois; Amended Certification Regarding Eligibility To Apply for Worker Adjustment Assistance

In accordance with Section 223 of the Trade Act of 1974 (19 U.S.C. 2273) the Department of Labor issued a Notice of Certification Regarding Eligibility to Apply for Worker Adjustment Assistance on June 16, 2004, applicable to workers of Amcor Plastube, Inc., Breinigsville, Pennsylvania. The notice was published in the Federal Register on July 7, 2004 (69 FR 40984).

At the request of the State agency, the Department reviewed the certification for workers of the subject firm. New information shows that a separation occurred involving an employee of Amcor Plastube, Inc., Breinigsville, Pennsylvania, working in Lake in the Hills, Illinois. Mr. James Sonsalla provided support services for the production of plastic squeeze tubes and polyfoil tubes for the cosmetic industry that are produced by the firm.

Based on these findings, the Department is amending this certification to extend coverage to the employee of the Breinigsville, Pennsylvania facility of Amcor Plastube, Inc., working in Lake in the Hills, Illinois.

The intent of the Department's certification is to include all workers of Amcor Plastube, Inc., Breinigsville, Pennsylvania, who were adversely affected by a shift in production to Canada.

The amended notice applicable to TA-W-54,945 is hereby issued as follows:

“All workers of Amcor Plastube, Inc., Breinigsville, Pennsylvania (TA-W-54,945), and Amcor Plastube, Inc., Lake in the Hills, Illinois (TA-W-54,945A), who became totally or partially separated from employment on or after May 17, 2003, through June 16, 2006, are eligible to apply for adjustment assistance under Section 223 of the Trade Act of 1974.”

Signed at Washington, DC, this 10th day of November 2004.
Linda G. Poole,
Certifying Officer, Division of Trade Adjustment Assistance.

[FR Doc. E4-3292 Filed 11-22-04; 8:45 am]

BILLING CODE 4510-30-P